DEPARTMENT OF JUSTICE

Notice of Lodging of Consent Decree Under the Resource Conservation and Recovery Act (“RCRA”)

Notice is hereby given that a proposed consent decree in United States, et al. v. TRW Vehicle Safety Systems Inc., Civil Action No. 01 0095 PHX VAM, was lodged on January 18, 2001 with the United States District Court for the District of Arizona.

In this Action, the United States and the State of Arizona have sought civil penalties and injunctive relief pursuant to the Resource Conservation and Recovery Act, 42 U.S.C. 6902 et seq., for violations at the Mesa, Arizona facility of TRW Vehicle Safety Systems, Inc. (“VSSI”), an airbag manufacturing facility.

The United States has now agreed to settlement of its claims under RCRA in the proposed consent decree, which provides for civil penalty of $5.67 million to be split evenly between the United States and the State of Arizona; a comprehensive package of Supplemental Environmental Projects estimated to cost $5.76 million to implement; contribution by VSSI to a cleanup fund for an off-site landfill, the Butterfield Station Landfill, located in Mobile, Arizona; measures related to future waste management at the Mesa facility; and assessment and cleanup of the Mesa facility.

The Department of Justice will receive, for a period of thirty (30) days from the date of the publication, comments relating to the proposed consent degree. Comments should be addressed to the Assistant Attorney General of the Environment and Natural Resources Division, P.O. Box 7611, Department of Justice, Washington, D.C. 20044, and should refer to United States, et al. v. TRW Vehicle Safety Systems Inc., Civil Action No. 01 0095 PHX VAM, and DOJ #90-7-1-06715.

The proposed consent decree may be examined at the Office of the United States Attorney, District of Arizona, Federal Building, Room 4000, 230 North First Avenue, Phoenix, Arizona 85025. A copy of the proposed consent decree also may be obtained by mail from the Department of Justice Consent Decree Library, P.O. Box 7611, Washington, D.C. 20044. In requesting a copy, please enclose a check in the amount of $21.50 (25 cents per page reproduction costs) per Consent Decree, payable to the Consent Decree Library.

Walker Smith,
Principal Deputy Chief, Environmental Enforcement Section, Environment and Natural Resources Division.

[FR Doc. 01-2051 Filed 1-22-01; 8:45 am]

BILLING CODE 4410-15-M